DEPARTMENT OF ENERGY

Federal Energy Regulatory Commission

[Docket No. EL13-43-000]

Council of the City of New Orleans; Mississippi Public Service Commission; Arkansas Public Service Commission; Notice of Petition for Declaratory Order

Take notice that on January 22, 2013, pursuant to section 207 of the Federal Energy Regulatory Commission's (Commission) Rules of Practice and Procedure 18 CFR 385.207, the Council of the City of New Orleans, the Mississippi Public Service Commission and the Arkansas Public Service Commission (together, the Entergy Retail Regulators) filed a petition for declaratory order requesting the Commission issue a declaratory order determining whether the Entergy Operating Companies' proposed avoided cost calculation methodology satisfies the Public Utility Regulatory Policies Act of 1978 (Petition) and request for exemption from filing fee. On January 23, 2013 the Entergy Retail Regulators filed errata to the Petition.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on February 21, 2013.

Dated: January 28, 2013.
Nathaniel J. Davis, Sr.,
Deputy Secretary.

[FR Doc. 2013-02182 Filed 1-31-13; 8:45 am]

BILLING CODE 6717-01-P